DEPARTMENT OF EDUCATION

Recognition of Accrediting Agencies, State Agencies for the Approval of Public Postsecondary Vocational Education

AGENCY: National Advisory Committee on Institutional Quality and Integrity, Department of Education (The Advisory Committee).

What Is the Purpose of This Notice?

The purpose of this notice is to invite written comments on accrediting agencies and State approval agencies whose applications to the Secretary for renewed recognition, requests for an expansion of the scope of recognition, or reports will be reviewed at the Advisory Committee meeting to be held on December 17-19, 2007, in the Mt. Vernon Rooms A and B at The Madison, 1177 15th Street, NW., Washington, DC 20005, telephone: 202-862-1600.

Where Should I Submit My Comments?

Please submit your written comments by mail, fax, or e-mail no later than August 31, 2007 to Ms. Robin Greathouse, Accreditation and State Liaison. You may contact her at the U.S. Department of Education, Room 7126, MS 8509, 1990 K Street, NW., Washington, DC 20006, telephone: (202) 219-7011, fax: (202) 219-7005, or e-mail: Robin.Greathouse@ed.gov. Individuals who use a telecommunications device for the deaf (TDD) may call the Federal Information Relay Service at 1-800-877-8339.

What is the Authority for the Advisory Committee?

The National Advisory Committee on Institutional Quality and Integrity is established under Section 114 of the Higher Education Act (HEA), as amended, 20 U.S.C. § 1011c. One of the purposes of the Advisory Committee is to advise the Secretary of Education on the recognition of accrediting agencies and State approval agencies.

Will This Be My Only Opportunity to Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comments.

What Happens to the Comments That I Submit?

We will review your comments, in response to this notice, as part of our evaluation of the agencies' compliance with Section 496 of the Higher Education Act of 1965, as amended, and the Secretary's Criteria for Recognition of Accrediting Agencies and State Approval Agencies. The Criteria are regulations found in 34 CFR part 602 (for accrediting agencies) and in 34 CFR part 603 (for State approval agencies) and are found at the following site: http://www.ed.gov/admins/finaid/accred/index.html.

We will also include your comments with the staff analyses we present to the Advisory Committee at its December 2007 meeting. Therefore, in order for us to give full consideration to your comments, it is important that we receive them by (August 31, 2007. In all instances, your comments about agencies seeking continued recognition and/or an expansion of an agency's scope of recognition must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency or State approval agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs it accredits that are encompassed within the scope of recognition she grants to the agency.

The following agencies will be reviewed during the December 2007 meeting of the Advisory Committee:

Nationally Recognized Accrediting Agencies

Petition for Renewal of Recognition That Includes a Contraction of the Scope of Recognition

1. American Optometric Association, Accreditation Council on Optometric Education (Current scope of recognition: The accreditation in the United States of professional optometric degree programs, optometric technician (associate degree) programs, and optometric residency programs and for the preaccreditation categories of Preliminary Approval and Reasonable Assurance for professional optometric degree programs and Candidacy Pending for optometric residency programs in Veterans' Administration facilities.)

(Requested scope of recognition: The accreditation in the United States of professional optometric degree programs, optometric technician (associate degree) programs, and optometric residency programs and for the preaccreditation categories of Preliminary Approval for professional optometric degree programs and Candidacy Pending for optometric residency programs in Department of Veterans' Affairs facilities.)

Petitions for Renewal of Recognition That Include an Expansion of the Scope of Recognition

1. National Association of Schools of Art and Design, Commission on Accreditation (Current scope of recognition: The accreditation throughout the United States of institutions and units within institutions offering degree-granting and non-degree-granting programs in art and design and art and design-related disciplines.)

(Requested scope of recognition: The accreditation throughout the United States of free-standing institutions and units offering art/design and art/design-related programs (both degree- and non-degree-granting) including those offered via distance education.)

2. National Association of Schools of Dance, Commission on Accreditation (Current scope of recognition: The accreditation throughout the United States of institutions and units within institutions offering degree-granting and non-degree-granting programs in dance and dance-related disciplines.)

(Requested scope of recognition: The accreditation throughout the United States of free-standing institutions and units offering dance and dance-related programs (both degree- and non-degree-granting) including those offered via distance education.)

3. National Association of Schools of Music, Commission on Accreditation, Commission on Community/Junior College Accreditation (Current scope of recognition: The accreditation throughout the United States of institutions and units within institutions offering degree-granting programs in music and music-related disciplines, including community/junior colleges and independent degree-granting and non-degree-granting institutions.)

(Requested scope of recognition: The accreditation throughout the United States of free-standing institutions and units offering music and music-related programs (both degree- and non-degree-granting) including those offered via distance education.)

4. National Association of Schools of Theatre, Commission on Accreditation (Current scope of recognition: The accreditation throughout the United States of institutions and units within institutions offering degree-granting and non-degree-granting programs in theatre and theatre-related disciplines.)

(Requested scope of recognition: The accreditation throughout the United States of free-standing institutions and units offering theatre and theatre-related programs (both degree- and non-degree-granting) including those offered via distance education.)

5. New England Association of Schools and Colleges, Commission on Institutions of Higher Education (Current scope of recognition: The accreditation and preaccreditation (“Candidacy status”) of institutions of higher education in Connecticut, Maine, Massachusetts, New Hampshire, Rhode Island, and Vermont that award bachelor's, master's, and/or doctoral degrees and associate degree-granting institutions in those states that include degrees in liberal arts or general studies among their offerings, including the accreditation of programs offered via distance education within these institutions. This recognition extends to the Board of Trustees of the Association jointly with the Commission for decisions involving preaccreditation, initial accreditation, and adverse actions.)

(Requested scope of recognition: The accreditation and preaccreditation (“Candidacy status”) of institutions of higher education in Connecticut, Maine, Massachusetts, New Hampshire, Rhode Island, and Vermont that award associate's, bachelor's, master's, and/or doctoral degrees, including the accreditation of programs offered via distance education within these institutions. This recognition extends to the Board of Trustees of the Association jointly with the Commission for decisions involving preaccreditation, initial accreditation, and adverse actions.)

6. North Central Association of Colleges and Schools, The Higher Learning Commission (Current scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including schools of the Navajo Nation and the accreditation of programs offered via distance education within these institutions. This recognition extends to the Institutional Actions Committee jointly with the Board of Trustees of the Commission for decisions on cases for continued accreditation or reaffirmation, and continued candidacy. This recognition also extends to the Review Committee of the Accreditation Review Council jointly with the Board of Trustees of the Commission for decisions on cases for continued accreditation or candidacy and for initial candidacy or initial accreditation when there is a consensus decision by the Review Committee.)

(Requested scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education within these institutions. This recognition extends to the Institutional Actions Committee jointly with the Board of Trustees of the Commission for decisions on cases for continued accreditation or reaffirmation, and continued candidacy. This recognition also extends to the Review Committee of the Accreditation Review Council jointly with the Board of Trustees of the Commission for decisions on cases for continued accreditation or candidacy and for initial candidacy or initial accreditation when there is a consensus decision by the Review Committee.)

Petitions for Renewal of Recognition

1. Accrediting Council for Continuing Education and Training (Current scope of recognition: The accreditation of institutions of higher education throughout the United States that offer non-collegiate continuing education programs and those that offer occupational associate degree programs and those that offer such programs via distance education.)

(Requested scope of recognition: The accreditation throughout the United States of institutions of higher education that offer continuing education coursework and vocational programs that confer certificates or occupational associate degrees, including those programs offered via distance education.)

2. American Academy for Liberal Education (Current and requested scope of recognition: The accreditation and preaccreditation (“Candidacy for Accreditation”) of institutions of higher education and programs within institutions of higher education throughout the United States that offer liberal arts degree(s) at the baccalaureate level or a documented equivalency.)

3. Midwifery Education Accreditation Council (Current and requested scope of recognition: The accreditation and preaccreditation throughout the United States of direct-entry midwifery educational institutions and programs conferring degrees and certificates, including the accreditation of such programs offered via distance education.)

4. Northwest Commission on Colleges and Universities (Current scope of recognition: The accreditation and preaccreditation (“Candidacy status”) of postsecondary educational institutions in Alaska, Idaho, Montana, Nevada, Oregon, Utah, and Washington and the accreditation of such programs offered via distance education within these institutions.)

(Requested scope of recognition: The accreditation and preaccreditation (“Candidacy status”) of postsecondary degree-granting educational institutions in Alaska, Idaho, Montana, Nevada, Oregon, Utah, and Washington and the accreditation of such programs offered via distance education within these institutions.)

5. Western Association of Schools and Colleges, Accrediting Commission for Community and Junior Colleges (Current scope of recognition: The accreditation and preaccreditation (“Candidate for Accreditation”) of community and junior colleges located in California, Hawaii, the United States territories of Guam and American Samoa, the Republic of Palau, the Federated States of Micronesia, the Commonwealth of the Northern Mariana Islands, and the Republic of the Marshall Islands, and the accreditation of such programs offered via distance education at these colleges.)

(Requested scope of recognition: The accreditation and preaccreditation (“Candidate for Accreditation”) of two-year, Associate degree granting institutions located in California, Hawaii, the United States territories of Guam and American Samoa, the Republic of Palau, the Federated States of Micronesia, the Commonwealth of the Northern Mariana Islands, and the Republic of the Marshall Islands, and the accreditation of such programs offered via distance education at these colleges.)

Interim Reports (An interim report is a follow-up report on an accrediting agency's compliance with specific criteria for recognition.)

1. Accrediting Council for Independent Colleges and Schools.

2. Accreditation Council for Pharmacy Education.

3. American College of Nurse-Midwives, Division of Accreditation

4. The Council on Chiropractic Education, Commission on Accreditation.

5. National Accrediting Commission of Cosmetology Arts and Sciences.

6. Southern Association of Colleges and Schools, Commission on Colleges.

Interim Report With a Request for an Expansion of Scope

1. Joint Review Committee on Education in Radiologic Technology (Current scope of recognition: The accreditation of educational programs in radiography, including magnetic resonance, radiation therapy, and medical dosimetry, at the certificate, associate, and baccalaureate levels.)

(Requested scope of recognition: The accreditation of educational programs in radiography, magnetic resonance, radiation therapy, and medical dosimetry, including those offered via distance education, at the certificate, associate, and baccalaureate levels.)

State Agency Recognized for the Approval of Public Postsecondary Vocational Education

Petition for Renewal of Recognition

1. Puerto Rico State Agency for the Approval of Public Postsecondary Vocational, Technical Institutions and Programs

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. United States Naval Test Pilot School, Patuxent River, Maryland (request to award a Master's of Science in Flight Test Engineering Degree.)

Where Can I Inspect Petitions and Third-Party Comments Before and After the Meeting?

All petitions and those third-party comments received in advance of the meeting will be available for public inspection at the U.S. Department of Education, Room 7126, MS 8509, 1990 K Street, NW., Washington, DC 20006, telephone (202) 219-7011 between the hours of 8 a.m. and 3 p.m., Monday through Friday, until November 19, 2007. They will be available again after the December 17-19, 2007 Advisory Committee meeting. An appointment must be made in advance of such inspection.

How May I Obtain Electronic Access to This Document?

You may view this document, as well as all other Department of Education documents published in the Federal Register, in text or Adobe Portable Document Format (PDF) on the Internet at the following site: http://www.ed.gov/legislation/FedRegister.To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: July 26, 2007.
James F. Manning,
Acting Assistant Secretary, Office of Postsecondary Education.

[FR Doc. E7-14912 Filed 7-31-07; 8:45 am]

BILLING CODE 4000-01-P